DEPARTMENT OF AGRICULTURE

Forest Service

Tongass National Forest Wrangell Ranger District; Alaska; Wrangell Island Project Environmental Impact Statement; Correction

AGENCY: Forest Service, USDA.

ACTION: Notice of intent to prepare an environmental impact statement; Correction.

SUMMARY: A Notice of Intent (NOI) was first published for this proposal in the Federal Register on December 27, 2010 (75 FR 81210). A corrected NOI was published in the Federal Register on March 13, 2012 (77 FR 14727). This corrected NOI is being published because the project will now fall under the new 36 CFR 218 pre-decisional administrative review process, it has an updated timeline, and the purpose and need and the proposed action have been modified.

DATES: All comments received during the previous scoping periods in 2010-2011 will be considered in the preparation of this EIS. The draft environmental impact statement is expected to be published in December 2013 and the final environmental impact statement is expected to be published July 2014.

ADDRESSES: Send written comments to: Tongass National Forest, c/o Tim Piazza, 648 Mission Street, Ketchikan, AK 99901, Attn: Wrangell Island Project EIS. Comments may be hand-delivered to: Wrangell Ranger District, 525 Bennett Drive, Wrangell, AK 99929, Attn: Wrangell Island Project EIS. Comments may be submitted via facsimile to: 907-228-6215, Attn: Wrangell Island Project EIS. Comments may also be sent electronically to: `Comment on Project' link under `Get Connected' via the Wrangell Island Project EIS Web page at http://www.fs.fed.us/nepa/nepa_project_exp.php?project=34831. In all correspondence, please include your name, address, and organization name if you are commenting as a representative of an organization.

FOR FURTHER INFORMATION CONTACT: Tim Piazza, Team Leader, Federal Building, Ketchikan, AK, 907-228-6318 or Austin O'Brien, Wrangell Ranger District, Wrangell, AK, 907-874-7575. Individuals who use telecommunication devices for the deaf (TDD) may call the Federal Information Relay Service (FIRS) at 1-800-877-8339 between 8 a.m. and 8 p.m., Eastern Time, Monday through Friday.

SUPPLEMENTARY INFORMATION:

New Federal Regulations

The United States Department of Agriculture published a final rule in the Federal Register (78 FR 18481-18504) on March 27, 2013 to establish a new process by which the public may file objections seeking predecisional administrative review of proposed projects and activities implementing land management plans and documented with a Record of Decision or Decision Notice (reference 36 CFR part 218). This new process replaces the administrative appeals process at 36 CFR part 215. As the Record of Decision for the Wrangell Island Project is not expected until after September 27, 2013, the Wrangell Island Project is now subject to these new predecisional administrative review procedures.

Purpose and Need for Action

The purpose and need for the Wrangell Island Project has been modified. The purpose for proposing this project is to contribute to a long-term supply of timber for the timber industry on Wrangell Island and on the Tongass National Forest in general, in a manner that is consistent with the multiple-use goals and objectives of the Tongass Land and Resource Management Plan (Forest Plan). This would contribute to the timber supply that would help sustain the current timber industry while transitioning to a sustainable forest industry based on young-growth management.

The need is to provide an economic timber supply that meets market demand annually and for the planning cycle. An additional need identified by this NOI is to develop and manage roads in the project area to support resource management activities.

Proposed Action

The Proposed Action for the Wrangell Island Project has been modified from proposing timber harvest on approximately 6,500 acres, or 80 MMBF of volume, to approximately 4,500 acres, or 60 MMBF of volume, to reflect better timber volume information gathered from additional field work. The proposed action for the Wrangell Island Project is to harvest timber using a variety of silvicultural treatments on approximately 4,500 acres of suitable and available forested lands using various sizes of timber sales offered over multiple years. Stewardship contracts may be used. An estimated 60 million board feet of sawtimber and utility wood would be made available to industry for harvest. Approximately 35 miles of National Forest System (NFS) and temporary roads would be constructed and about 7 miles of existing NFS roads would be reconstructed. Existing log transfer facilities would be used as needed. Harvest would include helicopter, ground-based, and cable yarding systems using even-aged and uneven-aged harvest treatments to achieve stand objectives. All proposed activities would meet the standards and guidelines of the Forest Plan.

Possible Alternatives

A range of reasonable alternatives, from no action to maximizing harvest will be considered. Alternatives may include Forest Plan amendments to increase the size and connectivity of medium old-growth habitat reserves (OGRs), adjust the boundaries of small and medium OGRs, change land-use designations (LUDs), and modify Visual Priority Travel Routes (VPRs) and Use Areas.

Lead and Cooperating Agencies

The Forest Service is the lead agency. The U.S. Fish and Wildlife Service, the Alaska Department of Natural Resources, and the City and Borough of Wrangell have agreed to participate as cooperating agencies.

Responsible Official

The responsible official for the decision on this project is the Forest Supervisor of the Tongass National Forest.

Nature of Decision To Be Made

The responsible official will decide whether to authorize timber harvest, associated road construction, and road management on Wrangell Island.

Preliminary Issues

Preliminary significant issues identified for this project include 1) timber supply and timber sale economics, 2) old-growth reserve designs, and 3) road access and managment.

Preliminary Permits, Licenses or Other Requirements

U.S. Environmental Protection Agency: Spill Prevention Control and Countermeasure Plan (SPCC); Facility Response Plan (FRP) required under the Clean Water Act (CWA), as revised by the Oil Pollution Act, or as required under 40 CFR part 112.

State of Alaska, Department of Environmental Conservation: Alaska Pollutant Discharge Elimination System (APDES) for point source and stormwater discharges; Certification of Compliance with Alaska Water Quality Standards (401 Certification); Storm water discharge permit/National Pollutant Discharge Elimination System review under Section 402 of the Clean Water Act (402); Solid Waste Disposal Permit.

State of Alaska, Department of Natural Resources (DNR): Authorization for occupancy and use of tidelands and submerged lands.

Scoping Process

This notice of intent reinitiates the scoping process, which guides the development of the environmental impact statement. It is important that reviewers provide their comments at such times and in such manner that they are useful to the agency's preparation of the environmental impact statement. Therefore, comments should be provided prior to the close of the comment period and should clearly articulate the reviewer's concerns and contentions. Comments received in response to this solicitation, including names and addresses of those who comment, will be part of the public record for this proposed action. However, comments submitted anonymously will be accepted and considered.

Individuals and entities as defined in 36 CFR 218.2 who have submitted timely, specific written comments regarding this proposed action during this scoping period or any designated opportunity for written public comment may file an objection. Objections will only be accepted from those who have previously submitted timely, specific written comments regarding the proposed project during scoping or other designated opportunity for public comment in accordance with 36 CFR 218.5(a).

Maps and detailed information on the project are available on the Wrangell Island Project EIS Web page located at: (http://www.fs.fed.us/nepa/nepa_project_exp.php?project=34831).

Dated: August 9, 2013.
Patricia O'Connor,
Deputy Forest Supervisor.

[FR Doc. 2013-19801 Filed 8-14-13; 8:45 am]

BILLING CODE 3410-11-P